DEPARTMENT OF THE TREASURY

Proposed Collection; Comment Request

AGENCY: Departmental Offices, Treasury.

ACTION: Notice and request for comments.

SUMMARY: The Department of the Treasury, as part of its continuing effort to reduce paperwork and respondent burden, invites the general public and other Federal agencies to comment on an extension of an existing information collection, as required by the Paperwork Reduction Act of 1995, Public Law 104-13 (44 U.S.C. 3506(c)(2)(A)). Currently, the Office of the Fiscal Assistant Secretary, within the Department of the Treasury, is soliciting comments concerning grants to states for low-income housing projects in lieu of tax credits.

DATES: Written comments should be received on or before April 1, 2016 to be assured of consideration.

ADDRESSES: Send comments regarding the burden estimate, or any other aspect of the information collection, including suggestions for reducing the burden, to Sustanchia Gladden, Department of the Treasury, 1500 Pennsylvania Avenue NW., Room 1050, Washington, DC 20020 or to Sustanchia.Gladden@treasury.gov.

FOR FURTHER INFORMATION CONTACT: Requests for additional information should be directed to Sustanchia Gladden, Department of the Treasury, 1500 Pennsylvania Avenue NW., Room 1050, Washington, DC 20020 or to Sustanchia.Gladden@treasury.gov.

SUPPLEMENTARY INFORMATION: OMB Control Number: 1505-0218.

Title: Grants to States for Low-Income Housing Projects in lieu of Tax Credits.

Abstract: Authorized under the American Recovery and Reinvestment Act (ARRA) (Pub. L. 111-5), the Department of the Treasury implemented several provisions of the Act, more specifically Division B—Tax, Unemployment, Health, State Fiscal Relief, and Other Provisions. Among these components is a program which requires Treasury to make payments, in lieu of a tax credit, to state housing credit agencies. State housing credit agencies use the funds to make subawards to finance the construction or acquisition and rehabilitation of qualified low-income buildings. The collection of information from the agencies is necessary to properly monitor compliance with program requirements.

Type of Review: Extension of a currently approved collection.

Affected Public: State, Local, or Tribal Governments.

Estimated Number of Respondents: 55.

Estimated Annual Hours per Response: 0.5 hours.

Estimated Total Annual Burden Hours: 57.

Request for Comment: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Dated: January 27, 2016.
Brenda Simms,
Treasury PRA Clearance Officer.

[FR Doc. 2016-01768 Filed 1-29-16; 8:45 am]

BILLING CODE 4810-25-P